DEPARTMENT OF THE INTERIOR

Bureau of Land Management

[LLNVW00000.L5110000. GN0000.LVEMF1504350. 15X MO# 4500132874]

Notice of Availability of the Draft Environmental Impact Statement for the Proposed Marigold Mining Company—Marigold Mine—Mackay Optimization Project Humboldt County, Nevada

AGENCY: Bureau of Land Management, Interior.

ACTION: Notice of availability.

SUMMARY: In accordance with the National Environmental Policy Act of 1969, as amended (NEPA), and the Federal Land Policy and Management Act of 1976, as amended, the Bureau of Land Management (BLM) Humboldt River Field Office, Winnemucca, Nevada has prepared a Draft Environmental Impact Statement (EIS) for the Proposed Marigold Mine—Mackay Optimization Project (Project) and by this notice is announcing the opening of the comment period.

DATES: This notice initiates the public comment period for the Draft EIS. Comments may be submitted in writing until July 5, 2019. The date(s) and location(s) of any comment meetings will be announced at least 15 days in advance through local media, newspapers and the BLM website at: http://1.usa.gov/1PKqIbI. In order to be included in the Draft EIS, all comments must be received prior to the close of the 45-day public comment period. We will provide additional opportunities for public participation upon publication of the Final EIS.

ADDRESSES: You may submit comments related to the Marigold Mine—Mackay Optimization Project by any of the following methods:

• Website: http://1.usa.gov/1PKqIbI.

• Email: wfoweb@blm.gov. Include Marigold Mine Mackay DEIS Comments in the subject line.

• Fax: (775) 623-1740.

• Mail: BLM Winnemucca District, Humboldt River Field Office, 5100 East Winnemucca Blvd., Winnemucca, NV 89445.

FOR FURTHER INFORMATION CONTACT: Jeanette Black, telephone 775-623-1500; address BLM Winnemucca District, Humboldt River Field Office, 5100 E Winnemucca Blvd., Winnemucca, NV 89445; email infoweb@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The applicant, Marigold Mining Company (MMC), a wholly-owned subsidiary of SSR Mining Inc., has requested to optimize and modify its approved Plan of Operations by expanding its gold mining operations at the existing Marigold Mine, which is located in the southeastern portion of Humboldt County, Nevada approximately 35 miles southeast of Winnemucca. The mine is currently authorized to disturb up to 5,682.6 acres (3,211.4 acres of private land and 2,471.2 acres of public land), and was permitted under a series of Environmental Impact Statements and Environmental Assessments from July 1988 through October 2013.

All proposed disturbance would occur within the existing approved Plan boundary and includes combining multiple existing pits into three large pits. Waste rock storage areas, heap leach pads, and other supporting facilities would be expanded to support the pit expansion. The pits are proposed to extend below the historic water table necessitating dewatering of the groundwater and rapid infiltration basins (RIBs) for recharging the excess water downgradient of the pits. If approved, the proposed modification would extend the mine life by up to 10 years.

Amendments to two associated rights-of-ways (ROWs) needed to accommodate the proposed mine changes are evaluated in the Draft EIS. These ROWs include relocation of a portion of the county road called Buffalo Valley Road and of a portion of the existing 120-kV power line (ROW held by NV Energy).

The Draft EIS analyzes three alternatives; the Proposed Action, Alternative I—Partial Discharge to Cottonwood Creek and Pipeline to RIBs Alternative, and the No Action Alternative.

The Proposed Action, if selected by the BLM, would include 2,055.9 acres of new disturbance (800.9 acres of public land and 1,255 acres of private land), increasing the surface disturbance by a total of 7,738.5 acres (3,271.7 acres of public land and 4,466.4 acres on private land).

Under Alternative I, all components of the Proposed Action would be the same except for the proposed dewatering operation that would increase the total disturbance by approximately 4 acres. A portion of the dewatered groundwater (approximately 191 gpm) would be treated at a water treatment plant, transported via an above ground pipeline system and discharged to Cottonwood Creek drainage, creating a water source for livestock and wildlife while recharging the aquifer. The remaining portion of dewatering water would be piped to the RIBs.

Under the No Action Alternative, the plan modification would not be authorized and the activities described under the Proposed Action would not occur. MMC would continue mining activities as authorized in their current Plan, dated November 6, 2013, with closure in 2027, followed by approximately three years of reclamation.

A Notice of Intent (NOI) to prepare an EIS for the proposed Mackay Project was published in the Federal Register on March 4, 2016 (FR Doc No: 2016-04806). The BLM received 22 public scoping comment during the 31-day scoping period. From the 22 comments, 70 issue statements were identified and evaluated in the Draft EIS (Table 1.4-1). The following issues of environmental, social, and economic concern were identified: Air quality from mining emissions; fugitive dust; hazardous air pollutants; greenhouse gases; geochemical concerns from mining activities; effects on cultural sites; impacts to California Trails; environmental justice; Native American Religious Concerns; noise effects on Greater Sage Grouse and humans; rangeland management; impacts from the relocation of county road and NV Energy powerline; public access for dispersed recreation; economic benefits; visual resources; surface and groundwater quality and quantity impacts due to dewatering of the aquifer; water rights; formation of a pit lake with evaporative water losses; wetland and riparian zones; wildlife impacts due to mining activities (vegetation loss, weed management, surface water sources, migration routes, lighting); environmental protection measures; mitigation; monitoring; reclamation; closure; and alternatives.

The BLM analyzed a combination of proposed environmental measures and possible mitigation to eliminate or minimize impacts associated with the proposed action. These included the potential for identifying opportunities to apply mitigation hierarchy strategies for on-site and regional mitigation appropriate to the size of the proposal, and management actions to achieve resource objectives.

The BLM will use NEPA public participation requirements to assist the agency in satisfying the public involvement requirements under the National Historic Preservation Act (NHPA) (54 U.S.C. 306108) pursuant to 36 CFR 800.2(d)(3). The information about historic and cultural resources within the area potentially affected by the proposed amendment will assist the BLM in identifying and evaluating impacts to such resources in the context of both NEPA and the NHPA.

The BLM continues to consult with Indian tribes on a government-to-government basis in accordance with Executive Order 13175 and other policies. Tribal concerns, including impacts to Indian trust assets and potential impacts to cultural resources, will be given due consideration. Federal, State, and local agencies, along with tribes and other stakeholders that may be interested or affected are invited to comment on the proposal that the BLM is evaluating.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10.

David Kampwerth,
Field Manager, Humboldt River Field Office.

[FR Doc. 2019-10475 Filed 5-17-19; 8:45 am]

BILLING CODE 4310-HC-P